DEPARTMENT OF AGRICULTURE

Food and Nutrition Service

Agency Information Collection Activities: Proposed Collection; Comment Request—Generic Clearance To Conduct Formative Research or Development of Nutrition Education and Promotion Materials and Related Tools and Grants for FNS Population Groups

AGENCY: Food and Nutrition Service (FNS), USDA.

ACTION: Notice.

SUMMARY: In accordance with the Paperwork Reduction Act of 1995, this notice invites the general public and other interested parties to comment on a proposed information collection. This collection is an extension of a currently approved collection. This information collection will conduct research in support of FNS' goal of delivering science-based nutrition education to targeted audiences. This information collection will also conduct research that will assist FNS in identifying effective design and implementation approaches to use to develop and assess grants. From development through testing of materials and tools with the target audience, FNS plans to conduct data collections that involve formative research including focus groups, interviews (dyad, triad, telephone, etc.), surveys and Web-based collection tools.

DATES: Written comments must be received on or before July 28, 2025.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to the Planning and Regulatory Affairs Office, Food and Nutrition Service, U.S. Department of Agriculture, 1320 Braddock Place, 5th floor, Alexandria, VA 22314. Comments may also be sent via fns-prao@usda.gov. Comments will also be accepted through the Federal eRulemaking Portal. Go to https://www.regulations.gov, and follow the online instructions for submitting comments electronically.

All responses to this notice will be summarized and included in the request for Office of Management and Budget (OMB) approval. All comments will be a matter of public record.

FOR FURTHER INFORMATION CONTACT: Requests for additional information or copies of this information collection should be directed to Planning and Regulatory Affairs Office at (703) 305-2403 or via email at fns-prao@usda.gov.

SUPPLEMENTARY INFORMATION:

Title: Generic Clearance to Conduct Formative Research or Development of Nutrition Education, Promotion Materials and Related Tools, and Grants for FNS Population Groups.

OMB Number: 0584-0524.

Expiration Date: February 28, 2026.

Type of Request: Extension of a currently approved information collection.

Abstract: This information collection is based on section 19 of the Child Nutrition Act of 1966 (42 U.S.C. 1787), section 5 of the Richard B. Russell National School Lunch Act (42 U.S.C. 1754) and section 11(f) of the Food and Nutrition Act of 2008 (7 U.S.C. 2020). This request for approval of information collection is necessary to obtain input into the development of nutrition education interventions for population groups served by the U.S. Department of Agriculture, Food and Nutrition Service (USDA-FNS). FNS also uses this collection to obtain input that can be used to develop and assess grants. Interventions need to be designed so that they can be delivered through different types of media and in a variety of formats for diverse audiences.

FNS develops a variety of resources to support nutrition education and promotion activities. These resources are designed to convey science-based, behavior-focused nutrition messages about healthy eating and physical activity to children and adults eligible to participate in FNS nutrition assistance programs and to motivate them to consume more healthful foods as defined by the Dietary Guidelines for Americans (DGA). This includes education materials, messages, promotion tools and interventions for the diverse population served by the Federal nutrition programs as well as WIC, Team Nutrition, Food Distribution and other programs.

Obtaining formative input and feedback is fundamental to FNS' success in delivering science-based nutrition messages and reaching diverse segments of the population in ways that are meaningful and relevant. This includes conferring with the target audience, individuals who serve the target audience, and key stakeholders on the communication strategies and interventions that will be developed and on the delivery approaches that will be used to reach consumers. The formative research and testing activities described will help in the development of effective education and promotion tools and communication strategies. Collection of this information will increase FNS' ability to formulate nutrition education interventions that resonate with the intended target population, particularly low-income families.

FNS also uses formative input and feedback to determine how best to develop and assess grants so that grant recipients can successfully meet their goals under these grants. To do this, FNS confers with grant recipients to obtain input regarding their experiences, expectations, challenges, and lessons learned while implementing the grant.

Formative research methods and information collection will include focus groups, interviews (dyad, triad, telephone, etc.), surveys and Web-based data collection. The data obtained will provide input regarding the potential use of materials and products during both the developmental and testing stages, in addition to the development of grants. Key informant interviews will be conducted in order to determine future nutrition education and grant needs, tools and dissemination strategies. This task involves collecting a diverse array of information from a variety of groups including: people familiar with the target audiences; individuals delivering nutrition education intervention materials and projects; program providers at State and local levels; program participants; grant recipients, and other relevant informants associated with FNS programs.

Findings from all data collection will be included in summary reports submitted to USDA-FNS. The reports will describe the data collection methods, findings, conclusions, implications, and recommendations for the development and effective dissemination of nutrition education materials and related tools for FNS population groups. There will be no specific quantitative analysis of data. No attempt will be made to generalize the findings to be nationally representative or statistically valid. There are no recordkeeping or third party disclosure burden requirements.

Reporting Burden

FNS estimates the total annual burden hours are a total of 46,823 burden hours for 3 years. Additionally, the total annual responses are a total of 120,710 total responses for 3-year approval. See the 3-year approval estimates below.

Affected Public: State, Local and Tribal Government; Individuals and Households; and Business or Other for Profit.

Estimated Number of Respondents: 120,710 respondents.

Estimated Number of Responses per Respondent: 1 response.

Estimated Total Annual Responses: 120,710.

Estimate of Time per Respondent: .39 hours.

Estimated Total Annual Reporting Burden Hours: 46,823 hours.

Collection instruments | Estimated number respondents | Responses annually per respondent | Total annual responses | Estimated average number of hours per response | Estimated total hours
Focus Group Screeners | 11,250 | 1 | 11,250 | 0.25 | 2,813
Interview Screeners/Surveys | 22,500 | 1 | 22,500 | 0.25 | 5,625
Focus Groups | 6,750 | 1 | 6,750 | 2 | 13,500
Intercept Interviews | 2,000 | 1 | 2,000 | 0.5 | 1,000
Dyad/Triad Interviews | 3,000 | 1 | 3,000 | 1.00 | 3,000
Telephone Interviews | 13,500 | 1 | 13,500 | 0.5 | 6,750
Surveys | 7,000 | 1 | 7,000 | 0.5 | 3,500
Web-based Collections | 4,500 | 1 | 4,500 | 0.5 | 2,250
Confidentiality Agreements | 30,000 | 1 | 30,000 | 0.167 | 5,010
Forms (web-based consumer feedback, response, pre/post-test forms, etc.) | 20,210 | 1 | 20,210 | 0.167 | 3,375
3-Year Total Reporting Burden | 120,710 | 1 | 120,710 | .39 | 46,823

James C. Miller,
Administrator, Food and Nutrition Service.

[FR Doc. 2025-09642 Filed 5-28-25; 8:45 am]

BILLING CODE 3410-30-P